DEPARTMENT OF ENERGY

Federal Energy Regulatory Commission

Combined Notice of Filings #1

Take notice that the Commission received the following exempt wholesale generator filings:

Docket Numbers: EG16-24-000.

Applicants: Blythe Solar 110, LLC.

Description: Notice of Self-Certification of Exempt Wholesale Generator Status of Blythe Solar 110, LLC.

Filed Date: 11/24/15.

Accession Number: 20151124-5263.

Comments Due: 5 p.m. ET 12/15/15.

Take notice that the Commission received the following electric rate filings:

Docket Numbers: ER10-2074-006; ER10-2097-008.

Applicants: Kansas City Power & Light Company, KCP&L Greater Missouri Operations Company.

Description: Notice of Change in Status of Kansas City Power & Light Company, et al.

Filed Date: 11/24/15.

Accession Number: 20151124-5258.

Comments Due: 5 p.m. ET 12/15/15.

Docket Numbers: ER10-3297-008.

Applicants: Powerex Corp.

Description: Notice of Non-Material Change in Status of Powerex Corp.

Filed Date: 11/25/15.

Accession Number: 20151125-5247.

Comments Due: 5 p.m. ET 12/16/15.

Docket Numbers: ER16-388-000.

Applicants: Southern California Edison Company.

Description: Tariff Cancellation: Notice of Cancellation LGIA Alta Windpower Development to be effective 9/11/2015.

Filed Date: 11/25/15.

Accession Number: 20151125-5022.

Comments Due: 5 p.m. ET 12/16/15.

Docket Numbers: ER16-389-000.

Applicants: Pacific Gas and Electric Company.

Description: § 205(d) Rate Filing: Amendment to DWR Midway-Wheeler Ridge Agreement (RS245) to be effective 1/25/2016.

Filed Date: 11/25/15.

Accession Number: 20151125-5033.

Comments Due: 5 p.m. ET 12/16/15.

Docket Numbers: ER16-390-000.

Applicants: Pacific Gas and Electric Company.

Description: § 205(d) Rate Filing: Lathrop Irrigation District IA and TFA (SA 298) to be effective 11/30/2015.

Filed Date: 11/25/15.

Accession Number: 20151125-5038.

Comments Due: 5 p.m. ET 12/16/15.

Docket Numbers: ER16-391-000.

Applicants: Public Service Company of New Hampshire.

Description: § 205(d) Rate Filing: Schiller Generating Station LGIA—Service Agreement No. IA-ES-31 to be effective 1/1/2016.

Filed Date: 11/25/15.

Accession Number: 20151125-5090.

Comments Due: 5 p.m. ET 12/16/15.

Docket Numbers: ER16-392-000.

Applicants: Midcontinent Independent System Operator, Inc.

Description: § 205(d) Rate Filing: 2015-11-25_Attachment MM AFUDC Filing to be effective 1/1/2016.

Filed Date: 11/25/15.

Accession Number: 20151125-5102.

Comments Due: 5 p.m. ET 12/16/15.

Docket Numbers: ER16-393-000.

Applicants: Fowler Ridge Wind Farm LLC.

Description: Compliance filing: Compliance Filing—Removal of Tariff Waiver to be effective 11/1/2015.

Filed Date: 11/25/15.

Accession Number: 20151125-5124.

Comments Due: 5 p.m. ET 12/16/15.

Docket Numbers: ER16-394-000.

Applicants: NedPower Mount Storm, LLC.

Description: Compliance filing: Compliance Filing—Removal of Affiliate Waiver to be effective 11/1/2015.

Filed Date: 11/25/15.

Accession Number: 20151125-5186.

Comments Due: 5 p.m. ET 12/16/15.

Docket Numbers: ER16-395-000.

Applicants: Selmer Farm, LLC.

Description: Compliance filing: Compliance Filing—Removal of Affiliate Waiver to be effective 11/1/2015.

Filed Date: 11/25/15.

Accession Number: 20151125-5190.

Comments Due: 5 p.m. ET 12/16/15.

Docket Numbers: ER16-396-000.

Applicants: CID Solar, LLC.

Description: Compliance filing: Compliance Filing—Removal of Affiliate Tariff to be effective 11/1/2015.

Filed Date: 11/25/15.

Accession Number: 20151125-5246.

Comments Due: 5 p.m. ET 12/16/15.

Take notice that the Commission received the following electric securities filings:

Docket Numbers: ES16-6-000.

Applicants: Commonwealth Edison Company.

Description: Amendment to October 30, 2015 Application of Commonwealth Edison Company Under Section 204 of the Federal Power Act for Authorization of the Issuance Securities.

Filed Date: 11/24/15.

Accession Number: 20151125-5093.

Comments Due: 5 p.m. ET 12/4/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2015.
Nathaniel J. Davis, Sr.,
Deputy Secretary.

[FR Doc. 2015-30566 Filed 12-2-15; 8:45 am]

BILLING CODE 6717-01-P